DEPARTMENT OF TRANSPORTATION

Federal Highway Administration

Environmental Impacts Statement: Erie County, NY

AGENCY: Federal Highway Administration (FHWA), Buffalo-Fort Erie Public Bridge Authority.

ACTION: Notice of intent.

SUMMARY: The FHWA is issuing this notice to advise the public that the environmental impact statement for an earlier project entitled “Rehabilitation or Reconstruction of the Peace Bridge U.S. Plaza and Connecting Roadways in the City of Buffalo, Erie County, New York” will not be progressed. Instead, an environmental impact statement will be prepared for a new and expanded project entitled “Capacity Improvements to the Peach Bridge, Plazas and Connecting Roadways in the Town of Fort Erie and City of Buffalo, Ontario Province—Canada and New York State—United States” respectively.

FOR FURTHER INFORMATION CONTACT: Douglas P. Conlan, District Engineer, Federal Highway Administration, Leo O'Brien Federal Building 7th Floor, Albany, New York 12207, Telephone: (518) 431-4125 extension 225, or Brian O. Rowback, Regional Director, New York State Department of Transportation, 125 Main Street, Buffalo, New York 14203, Telephone: (716) 847-3238, or Clifford T. Elwood, Capital Projects Manager, Buffalo and Fort Erie Public Bridge Authority, Peace Bridge Plaza, Buffalo, New York 14213, Telephone: (716) 884-6752 extension 234.

SUPPLEMENTARY INFORMATION: The FHWA, in cooperation with the New York State Department of Transportation and Buffalo-Fort Erie Public Bridge Authority, will prepare an environmental impact statement (EIS) on a proposal for increasing capacity at the Peace Bridge crossing between the United States and Canada. The proposed improvements would include widening, building a second bridge or replacement of the existing Niagara River bridge, reconfiguration and/or reconstruction of toll and inspection plazas and re-alignment and/or reconstruction of connecting roadways. Improvements to the bridge are considered necessary to provide for existing and projected traffic demand. The plazas and connecting roadways require improvement because the current layout/locations cause operational conflicts between pedestrian, passenger car and tractor-trailer movements.

Alternatives under consideration include (1) taking no action; (2) widening the existing bridge; (3) building a second bridge on an alignment north or south of existing; (4) constructing bridge on new location. Each alternative would include plaza layout options and either re-aligned or new connecting roadways to the arterial system.

Letters describing the proposed action and soliciting comments will be sent to appropriate Federal, State, and local agencies, and to private organizations and citizens who have previously expressed or are known to have interest in this proposal. A formal scoping process will be followed for this project. This process will include public and agency meetings to be scheduled for multiple locations. In addition, public hearings will be held. The draft EIS will be available for public and agency review and comment prior to these public hearings.

To ensure that the full range of issues related to this proposed action are addressed and all significant issues identified, comments and suggestions are invited from all interested parties. Comments and questions concerning this proposed action can be directed to the FHWA at the address provided above.

(Catalog of Domestic Assistance Program Number 20.205, Highway Planning and Construction. The regulations implementing Executive Order 12372 regarding intergovernmental consultation on Federal programs and activities apply to this program.)

Authority: 23 U.S.C. 315, 23 CFR 771.123.

Issued on: September 20, 2001.
Douglas P. Conlan,
District Engineer, Federal Highway Administration, Albany, New York.

[FR Doc. 01-25104 Filed 10-5-01; 8:45 am]

BILLING CODE 4910-22-M